ENVIRONMENTAL PROTECTION AGENCY

[FRL-9254-2 ]

Intent to Grant Patent License

AGENCY: Environmental Protection Agency (EPA).

ACTION: Notice of Intent to Grant Co-Exclusive Patent License.

SUMMARY: Pursuant to 35 U.S.C. 207 (Patents) and 37 CFR part 404 (U.S. Government patent licensing regulations), EPA hereby gives notice of its intent to grant a co-exclusive, royalty-bearing, revocable license to practice the inventions described and claimed in the U.S. patents and patent applications listed at the end of this message, and all corresponding patents issued throughout the world, and all reexamined patents and reissued patents granted in connection with such patent applications, to Oakland Technology, LLC of Farmington Hills, Michigan.

The inventions pertain to hybrid vehicle technology, particularly hydraulic hybrid drive systems, methods, and components. The proposed license will contain appropriate terms, limitations, and conditions negotiated in accordance with 35 U.S.C. 209 and 37 CFR 404.5 and 404.7 of the U.S. Government patent licensing regulations. EPA will finalize terms and conditions and grant the license unless, within 15 days from the date of this notice, EPA receives, at the address below, written objections to the grant, together with supporting documentation. The documentation from objecting parties having an interest in practicing the inventions listed in the patents and patent applications below should include an application for a nonexclusive license with the information set forth in 37 CFR 404.8. The EPA Patent Attorney and other EPA officials will review all written responses and then make recommendations on a final decision to the Director or Deputy Director of the Office of Transportation and Air Quality, who have been delegated the authority to issue patent licenses under EPA Delegation 1-55.

The proposed license will apply to the following patents and patent applications:

Method or Vehicle Licensed Inventions

Patent No. | Title | Date issued
5,495,912 | Hybrid Powertrain Vehicle | March 5, 1996.
5,887,674 | Continuously Smooth Transmission | March 30, 1999.
6,719,080 | Hydraulic Hybrid Vehicle | April 13, 2004.
6,876,098 | Methods of Operating a Series Hybrid Vehicle | April 5, 2005.
7,456,509 | Methods of Operating a Series Hybrid Vehicle (div) | November 25, 2008.
7,337,869 | Hydraulic Hybrid Vehicle with Integrated Drive Module and Four-Wheel-Drive, and Method of Operation Thereof | March 4, 2008.
7,252,020 | Vehicle Drivetrain including a Clutchless Transmission, and Method of Operation | August 7, 2007.
6,998,727 | Methods of Operating a Parallel Hybrid Vehicle Having an Internal Combustion Engine and a Secondary Power Source | February 14, 2006.
7,104,349 | Hybrid Powertrain Motor Vehicle with Homogenous Charge Compression Ignition (HCCI) Engine, and Method of Operation Thereof | September 12, 2006.
7,857,082 | Methods of Operating a Series Hybrid Vehicle (Div.) | December 28, 2010.

Application No. | Title | Date filed
12/229,099 | Hydraulic Hybrid Vehicle with Integrated Hydraulic Drive Module and Four-Wheel-Drive, and Method of Operation Thereof (Div.) | August 19, 2008.
11/583,205 | Hydraulic Hybrid Vehicle Methods of Safe Operation | October 18, 2006.
61/311,835 | Hydraulic Hybrid Vehicle with Safe and Efficient Hydrostatic Operation | March 9, 2010.
12/654,321 | Methods of Optimizing Efficiency of a Series Hybrid Vehicle with Multi-Gear Transmission | December 17, 2009.
12/711,603 | Hydraulic-Electric Regenerative Energy Storage System | February 24, 2010.
61/326,317 | Methods for Safe Operation of Hydraulic Hybrid Vehicles with Over-Center Pump/Motors | April 21, 2010.
12/731,326 | Regenerative Energy Storage System for Hybrid Locomotive | March 25, 2010.
12/955,795 | Methods of Operating a Series Hybrid Vehicle (Div.) | November 29, 2010.

Hydraulic Component Licensed Inventions

Patent No. | Title | Date issued
6,619,325 | Hydraulic Hybrid Accumulator Shut-off Valve | September 16, 2003.
6,996,982 | Method and Device for Switching Hydraulic Fluid Supplies, such as for a Hydraulic Pump/Motor | February 14, 2006.
7,014,429 | High-Efficiency, Large Angle, Variable Displacement Hydraulic Pump/Motor | March 21, 2006.
7,108,016 | Lightweight Low Permeation Piston-in-Sleeve Accumulator | September 19, 2006.
7,121,304 | Low Permeation Hydraulic Accumulator | October 17, 2006.
7,305,914 | Hydraulic Actuator Control Valve | December 11, 2007.
6,170,524 | Fast Valve and Actuator | January 9, 2001.
7,305,915 | Efficient Pump/Motor with Reduced Energy Loss | December 11, 2007.
7,374,005 | Opposing Pump/Motors | May 20, 2008.
7,500,424 | Hydraulic Machine Having Pressure Equalization | March 10, 2009.
7,527,074 | Hydraulic Pressure Accumulator | May 5, 2009.
7,537,075 | Hydraulic Hybrid Vehicle with Integrated Hydraulic Drive Module and Four-Wheel-Drive, and Method of Operation Thereof (Div.) | May 26, 2009.
7,553,085 | Fluid Bearing and Method of Operation | June 30, 2009.
7,594,802 | Large Angle Sliding Valve Plate Pump/Motor | September 29, 2009.
7,617,761 | Opposing Pump/Motors (divisional) | November 17, 2009.
7,677,871 | High-Efficiency, Large Angle, Variable Displacement Hydraulic Pump/Motor (Divisional) | March 16, 2010.

Application No. | Title | Date filed
11/233,822 | Independent Displacement Opposing Pump/Motors and Method of Operation | September 22, 2005.
11/540,765 | Quiet Fluid Supply Valve | September 29, 2006.
11/540,089 | Safe Over-Center Pump/Motor | September 29, 2006.
12/156,734 | Piston-in-Sleeve Hydraulic Pressure Accumulator | June 4, 2008.
12/701,438 | Variable Length Bent-Axis Pump/Motor | February 5, 2010.
12/384,789 | Hydraulic Accumulator and Fire Suppression System | April 9, 2009.
12/567,938 | Hydraulic Circuit and Manifold with Multi-Function Valve | September 28, 2009.
11/999,884 | Engine-Off Power Steering System | December 7, 2007.
12/215,438 | On-Demand Power Brake System and Method | June 26, 2008.

DATES: Comments on this notice must be received by EPA at the address listed below by February 3, 2011.

FOR FURTHER INFORMATION CONTACT: David Read, Attorney Advisor, Environmental Protection Agency, National Vehicle Fuel Emissions Laboratory, Office of Air and Radiation, 2565 Plymouth Road, Ann Arbor, MI 48105, telephone (734) 214-4367.

Dated: January 12, 2011.
Geoff Cooper,
Assistant General Counsel, General Law Office.

[FR Doc. 2011-1016 Filed 1-18-11; 8:45 am]

BILLING CODE 6560-50-P